DEPARTMENT OF DEFENSE

Department of the Army

Open Season Announcement for the Defense Personal Property Program (DP3)

AGENCY: Department of the Army, DOD.

ACTION: Solicitation of applications.

SUMMARY: The Military Surface Deployment and Distribution Command (SDDC) will officially have an Open Season thru April 25, 2017. New entrants will be sought for Hawaii and certain Interstate channel combinations where origins/destinations have demonstrated shortage of capacity as determined by SDDC and the Military Services.

ADDRESSES: Submit applications no later than April 25, 2017 to Military Surface Deployment and Distribution Command at usarmy.scott.sddc.mbx.pp-quality@mail.mil. Application forms will be available from this office or on our Web site listed below. Applications will also be accepted by mail at Military Surface Deployment and Distribution Command, ATTN: AMSSD-PP, 1 Soldier Way, Scott AFB, IL 62225-5006.

FOR FURTHER INFORMATION CONTACT: PP Operational and Quality Support Team, usarmy.scott.sddc.mbx.pp-quality@mail.mil, (618) 220-6789, (618) 220-5775, (618) 220-5407.

SUPPLEMENTARY INFORMATION: Transportation Service Providers (TSPs) interested in applying during this open season must comply with the following:

(1) TSPs must meet all requirements set forth in SDDC Regulation 55-4, Transportation Service Provider Qualifications.

Additional requirements:

(2) New entrant applications will be accepted for the following Interstate origin rate areas: District of Columbia, Virginia, Maryland, Oregon, Arizona, Georgia, South Carolina, New Mexico, Montana, North Dakota, South Dakota, Wyoming, Kansas, Oklahoma, Missouri, North Carolina. Accepted new entrants will be able to file rates from the Origin Rate Areas identified above to all Regions (224 of 833 channels).

(3) New entrant applications will be accepted for the International origin rate area of Hawaii. Accepted new entrants will be able to file rates from Hawaii to ALL channels in all codes of service.

(4) Currently approved TSP's will be able to expand their current scope to only the Interstate/International channel combinations as stated above.

(5) New entrant applicants must declare domestic and/or international Common Financial and/or Administrative Control (CFAC) with any current DP3 TSP or potential new entrant. TSPs declaring CFAC cannot compete in the same rate channel in the same code of service in either the domestic or international markets.

(6) New entrant applicants must be a Motor Carrier if applying for the Interstate market or Freight Forwarders if applying for Hawaii.

(7) New entrant applicants must have a suitable warehouse (not shared with a TSP currently in the program) and equipment in-rate area/bordering rate area. See Appendix D of the DTR Part IV for general guidelines.

(8) New entrant applicants will serve a probationary period of three years and may be granted authority to file for additional channels within the Interstate market within 3 years of entry into the DP3 program upon SDDC approval. The intent is for SDDC to progressively transition a successful new entrant into an unrestricted interstate participant within 3 years of program entry, subject to any other existing program rules and requirements.

(9) Change of Ownership novation's for New Entrants will not be accepted, reviewed or approved for New Entrant's within the first 3 years of entry.

(10) New entrants must perform the following at the offices of the TSP independent of any other person, firm, or corporation: (1) Shipment management; (2) coordinating operational functions. Only outsourcing of claims and invoicing is permitted.

(11) TSPs disqualified, revoked or that have voluntary withdrawn from the DP3 program prior to July 20, 2015 may apply as new entrants and will be assessed on a “Case by Case” and upon the discretion of SDDC.

References: SDDC Regulation 55-4; Defense Transportation Regulation Part IV Appendix D.

Miscellaneous: This announcement can be accessed via the SDDC Web site at: http://www.sddc.army.mil/.

Brenda S. Bowen,
Army Federal Register Liaison Officer.

[FR Doc. 2017-06459 Filed 3-31-17; 8:45 am]

BILLING CODE 5001-03-P